DEPARTMENT OF ENERGY

Federal Energy Regulatory Commission

[Docket No. EL05-43-000]

Tenaska Gateway Partners, Ltd., Complainant, v. Southwestern Electric Power Company and American Electric Power Service Corporation, Respondents; Notice of Complaint

December 15, 2004.

Take notice that on December 14, 2004, Tenaska Gateway Partners, Ltd. (Tenaska Gateway) filed a Complaint with the Commission, pursuant to section 206 of the Federal Power Act, against Southwestern Electric Power Company and American Electric Power Service Corporation (collectively, SWEPCO). The Complaint asserts that SWEPCO is violating the Commission's Interconnection Policy, engaging in prohibited “and” pricing, and charging unjust and unreasonable rates because SWEPCO has misclassified certain interconnection-related facilities in the Tenaska Gateway-SWEPCO Interconnection Agreement and is refusing to provide transmission credits for facilities that should properly be classified as network upgrades under the Commission's Interconnection Policy.

Tenaska Gateway states that copies of the Complaint have been served on SWEPCO.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests, must be filed on or before the comment date. The Respondent's answer, motions to intervene, and protests, must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on January 4, 2005.

Magalie R. Salas,
Secretary.

[FR Doc. E4-3785 Filed 12-22-04; 8:45 am]

BILLING CODE 6717-01-P